FEDERAL RESERVE SYSTEM.

Sunshine Act Meeting

Agency Holding the Meeting: Board of Governors of the Federal Reserve System.

Time and Date: 11:00 a.m., Friday, March 10, 2000.

Place: Marriner S. Eccles Federal Reserve Board Building, C Street entrance between 20th and 21st Streets, N.W., Washington, D.C. 20551.

Status: Open.

Matters to be Considered: Summary Agenda: Because of their routine nature, no discussion of the following items is anticipated. These matters will be voted on without discussion unless a member of the Board requests that an item be moved to the discussion agenda.

1. Proposed amendments to Regulation Y (Bank Holding Companies and Change in Bank Control) to implement the provisions of the Gramm-Leach-Bliley Act relating to financial activities permissible for financial holding companies and procedures for financial holding companies to engage in those activities.

2. Proposed amendments to Regulation Y (Bank Holding Companies and Change in Bank Control) concerning application of section 20 operating standards to financial holding companies.

3. Any items carried forward from a previously announced meeting.

Discussion Agenda: None. No Discussion Items are Scheduled for This Meeting.

Note: This meeting will be recorded for the benefit of those unable to attend. Cassettes will then be available for listening in the Board's Freedom of Information Office, and copies can be ordered for $6 per cassette by calling 202-452-3684 or by writing to: Freedom of Information Office, Board of Governors of the Federal Reserve System, Washington, D.C. 20551.

Contact Person for More Information: Lynn S. Fox, Assistant to the Board; 202-452-3204.

Supplementary Information: You may call 202-452-3206 for a recorded announcement of this meeting; or you may contact the Board's Web site at http://www.federalreserve.gov for an electronic announcement. (The Web site also includes procedural and other information about the open meeting.)

Dated: March 3, 2000.
Robert deV. Frierson,
Associate Secretary of the Board.

[FR Doc. 00-5605 Filed 3-3-00; 1:32 pm]

BILLING CODE 6210-01-P